DEPARTMENT OF THE INTERIOR

Fish and Wildlife Service

50 CFR Part 17

[Docket No. FWS-R4-ES-2023-0103; FF09E21000 FXES1111090FEDR 234]

RIN 1018-BG31

Endangered and Threatened Wildlife and Plants; Threatened Species Status With Section 4(d) Rule for the Miami Cave Crayfish

Correction

In proposed rule document 2023-20293, appearing on pages 64856-64870 in the issue of Wednesday, September 20, 2023, make the following correction:

§ 17.46 [Corrected]

On page 64870, in the first column, in the fourth and fifth lines after the table at the top of the page, “(e) Miami cave crish (Procambarus milleri).” should read “(e) Miami cave crayfish (Procambarus milleri).”

[FR Doc. C1-2023-20293 Filed 9-21-23; 8:45 am]

BILLING CODE 0099-10-P